FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 18, 2013.

A. Federal Reserve Bank of Atlanta (Chapelle Davis, Assistant Vice President) 1000 Peachtree Street NE., Atlanta, Georgia 30309:

1. H. Gary Morse, H. Gary Morse Family Trust, Mark G. Morse, Mark G. Morse Family Trust, Jennifer L. Parr, Jennifer L. Family Trust, Trust L. Matthews, and Tracy L. Mathews Family Trust, all of The Villages, Florida; to acquire voting shares of Villages Bancorporation, Inc., and thereby indirectly acquire voting shares of Citizens First Bank, both in The Villages, Florida.

B. Federal Reserve Bank of Kansas City (Dennis Denney, Assistant Vice President) 1 Memorial Drive, Kansas City, Missouri 64198-0001:

1. Joe F. Rayl Revocable Intervivos Trust U/A/D dated July 28, 1995 as amended, Bolivar, Missouri; and Jane Rayl, Bolivar, Missouri, and J. Michael Phillips, Springfield, Missouri, as co-trustees; to retain voting shares of Farmers Financial Corporation, Bolivar, Missouri, and thereby indirectly retain voting shares of Farmers State Bank S/B, Schell City, Missouri.

Board of Governors of the Federal Reserve System, August 29, 2013.
Margaret McCloskey Shanks,
Deputy Secretary of the Board.

[FR Doc. 2013-21480 Filed 9-4-13; 8:45 am]

BILLING CODE 6210-01-P